DEPARTMENT OF THE INTERIOR

Geological Survey

[GX.16.GG00.99600.00]

Agency Information Collection Activities: Request for Comments

AGENCY: U.S. Geological Survey (USGS), Interior.

ACTION: Notice of an extension of an information collection (1028-0051).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on April 30, 2016.

DATE: To ensure that your comments on this ICR are considered, OMB must receive them on or before March 31, 2016.

ADDRESSES: Please submit written comments on this information collection directly to the Office of Management and Budget (OMB), Office of Information and Regulatory Affairs, Attention: Desk Officer for the Department of the Interior via email: (OIRA_SUBMISSION@omb.eop.gov) or fax at 202-395-5806; and identify your submission with `OMB Control Number 1028-0051 Earthquake Hazards Program Research and Monitoring'. Please also forward a copy of your comments and suggestions on this information collection to the Information Collection Clearance Officer, U.S. Geological Survey, 12201 Sunrise Valley Drive MS 807, Reston, VA 20192 (mail); (703) 648-7199 (fax); or gs-info_collections@usgs.gov (email). Please reference `OMB Control Number 1028-0051 Earthquake Hazards Program Research and Monitoring' in all correspondence.

FOR FURTHER INFORMATION CONTACT: Thomas Pratt, Earthquake Hazards Program, U.S. Geological Survey, 12201 Sunrise Valley Drive, Mail Stop 905, Reston, VA 20192 (mail); 703-648-6709 (phone); or tpratt@usgs.gov (email). You may also find information about this ICR at www.reginfo.gov.

SUPPLEMENTARY INFORMATION:

I. Abstract

Research and monitoring findings are essential to fulfilling USGS's responsibility under the Earthquake Hazards Reduction Act to develop earthquake hazard assessments and recording earthquake activity nationwide. Residents, emergency responders, and engineers rely on the USGS for this accurate and scientifically sound information. The Earthquake Hazards Program funds external investigators to carry out these important activities. In response to our Program Announcements investigators submit proposals for research and monitoring activities on earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the Web site http://earthquake.usgs.gov/research/external/.

II. Data

OMB Control Number: 1028-0051.

Form Number: N/A.

Title: Earthquake Hazards Program Research and Monitoring.

Type of Request: Extension of a currently approved collection.

Respondent's Obligation: Required in order to obtain or retain benefits.

Frequency of Collection: Annually and once every two to five years.

Description of Respondents: Research scientists, engineers, and the general public.

Estimated Total Number of Annual Responses: 350 responses in total, consisting of 250 applications and narratives and 100 annual and final reports.

Estimated Time per Response: 45 hours per proposal application response and 12 hours per final or annual progress report.

Estimated Annual Burden Hours: 12,450 (11,250 hours per application and 1200 hours per final or annual progress report).

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number. Until the OMB approves a collection of information, you are not obliged to respond.

Comments: On November 5, 2015, we published a Federal Register notice (80 FR 68557) announcing that we would submit this ICR to OMB for approval and soliciting comments. The comment period closed on January 4, 2016. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

William Leith,
Senior Science Advisor for Earthquake and Geologic Hazards.

[FR Doc. 2016-04455 Filed 2-29-16; 8:45 am]

BILLING CODE P